DEPARTMENT OF JUSTICE

[OMB Number 1110-0001]

Agency Information Collection Activities; Proposed eCollection of eComments Requested; Return A—Monthly Return of Offenses Known to Police and Supplement to Return A—Monthly Return of Offenses Known to Police; Extension of a Currently Approved Collection

AGENCY: Federal Bureau of Investigation, Department of Justice.

ACTION: 60-Day notice.

SUMMARY: The Criminal Justice Information Services Division (CJIS), Federal Bureau of Investigation (FBI), Department of Justice (DOJ), will be submitting the following information collection request to the Office of Management and Budget (OMB) for review and approval in accordance with the Paperwork Reduction Act of 1995.

DATES: Comments are encouraged and will be accepted for 60 days until September 30, 2022.

FOR FURTHER INFORMATION CONTACT: Written comments and/or suggestions regarding the items contained in this notice, especially the estimated burden and associated response time, should be directed to Mr. Edward Abraham, Unit Chief, Criminal Justice Information Services Division, Module D-1, Federal Bureau of Investigation, 1000 Custer Hollow Road, Clarksburg, West Virginia 26306; telephone 304-625-4830. Written comments and/or suggestions can also be sent to the Office of Management and Budget, Office of Information and Regulatory Affairs, Attention: Department of Justice Desk Officer, Washington, DC 20503 or send to OIRA_submissions@omb.eop.gov.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate the quality, utility, and clarity of the information to be collected; and

• Minimize the burden of the collection of information on those who are to respond, including through the use of appropriate automated, electronic, mechanical, or other technological collection techniques or other forms of information technology, e.g., permitting electronic submission of responses.

Overview of This Information Collection:

1. Type of Information Collection: Extension of a currently approved collection.

2. The Title of the Form/Collection: Return A—Monthly Return of Offenses Known to Police and Supplement to Return A—Monthly Return of Offenses Known to Police and Supplement of Return A—Monthly Return of Offenses Known to Police

3. The agency form number, if any, and the applicable component of the Department sponsoring the collection: Form Number: 1-720 and 1-706.

Sponsor: Criminal Justice Information Services Division, Federal Bureau of Investigation, Department of Justice.

4. Affected public who will be asked or required to respond, as well as a brief abstract: City, county, state, tribal and federal law enforcement agencies.

Abstract: Under Title 28, U.S. Code 534, Acquisition, Preservation, and Exchange of Identification Records; Appointments of Officials, 1930, this collection requests Part I offense and clearance data, as well as stolen and recovered monetary values of stolen property throughout the United States from city, county, state, tribal, and federal law enforcement agencies in order for the FBI UCR Program to serve as the national clearinghouse for the collection and dissemination of crime data and to publish these statistics in the Preliminary Semi-Annual Report and Crime in the United States.

5. An estimate of the total number of respondents and the amount of time estimated for an average respondent to respond: There are approximately 18,600 law enforcement agencies within the universe of potential respondents. Due to the recent NIBRS transition, the UCR Program is no longer accepting new monthly submissions for Return A and Supplement to Return A data using this clearance. This clearance is being maintained to allow the submission of updates to past SRS submissions that were provided by agencies prior to the 2021 NIBRS transition. The submission of updates to past data is strictly voluntary and at the discretion of the contributing agency. Based on current reporting patterns, The FBI UCR Program has received 117,152 Return A & Supplement to Return A update submissions since January 1, 2021 with an estimated response time of 7 minutes per response on this form. As the UCR Program moves further from the NIBRS transition, it is expected that the total number of updates will steadily decline, mainly due to updates being done through NIBRS on a more frequent basis. However, due to the need for these updates, the burden hour estimate is based on the most recent submission volumes to achieve the highest possible burden estimate.

6. An estimate of the total public burden (in hours) associated with the collection: There are approximately 13,668 hours, annual burden, associated with this information collection.

If additional information is required contact: Robert Houser, Assistant Director, Policy and Planning Staff, Justice Management Division, United States Department of Justice, Two Constitution Square, 145 N Street NE, 3E.206, Washington, DC 20530.

Dated: July 26, 2022.
Robert Houser,
Assistant Director, Policy and Planning Staff, Office of the Chief Information Officer, U.S. Department of Justice.

[FR Doc. 2022-16360 Filed 7-29-22; 8:45 am]

BILLING CODE 4410-02-P